DEPARTMENT OF DEFENSE

GENERAL SERVICES ADMINISTRATION

NATIONAL AERONAUTICS AND SPACE ADMINISTRATION

48 CFR Parts 22, 25, and 52

[FAC 2001-24; FAR Case 2004-008; Item VI]

RIN 9000-AJ96

Federal Acquisition Regulation; Designated Countries—New European Communities Member States

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to implement a determination by the United States Trade Representative (USTR) under the Trade Agreements Act that suppliers from the 10 new member states of the European Communities (EC) (i.e., the European Union) are eligible to participate in U.S. Government procurement under the terms and conditions of the World Trade Organization Government Procurement Agreement (WTO GPA).

DATES: Effective Date: June 18, 2004.

FOR FURTHER INFORMATION CONTACT: The FAR Secretariat at (202) 501-4755 for information pertaining to status or publication schedules. For clarification of content, contact Ms. Cecelia Davis, Procurement Analyst, at (202) 219-0202. Please cite FAC 2001-24, FAR case 2004-008.

SUPPLEMENTARY INFORMATION:

A. Background

As of May 1, 2004, Cyprus, the Czech Republic, Estonia, Hungary, Latvia, Lithuania, Malta, Poland, the Slovak Republic, and Slovenia have joined the EC. The EC has notified the other WTO GPA parties of its intention that the WTO GPA is binding on the new EC Member States as of May 1, 2004. The USTR has determined under the Trade Agreements Act that suppliers from these countries are eligible to participate in U.S. Government procurement under the terms and conditions of the WTO GPA (69 FR 25654, May 7, 2004). Therefore, these countries have been added to the list of designated countries at FAR 25.003, 52.225-5, and 52.225-11, as well as the list of countries subject to the WTO GPA at FAR 22.1503 and 52.222-19. Corresponding changes have also been made to the clause dates in the list of clauses at 52.212-5, Contract Terms and Conditions Required to Implement Statutes or Executive Orders—Commercial Items.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Parts 22, 25, and 52 in accordance with 5 U.S.C. 610.

C. Paperwork Reduction Act

The Paperwork Reduction Act does not apply because the changes to the FAR do not impose information collection requirements that require the approval of the Office of Management and Budget under 44 U.S.C. 3501, et seq.

List of Subjects in 48 CFR Parts 22, 25, and 52

Government procurement.

Dated: June 10, 2004.
Ralph J. De Stefano,
Acting Director, Acquisition Policy Division.

Therefore, DoD, GSA, and NASA amend 48 CFR parts 22, 25, and 52 as set forth below:

1. The authority citation for 48 CFR parts 22, 25, and 52 is revised to read as follows:

Authority: 40 U.S.C. 121(c); 10 U.S.C. chapter 137; and 42 U.S.C. 2473(c).

PART 22—APPLICATION OF LABOR LAWS TO GOVERNMENT ACQUISITIONS

2. Amend section 22.1503 by revising paragraph (b)(4) to read as follows:

22.1503 Procedures for acquiring end products on the List of Products Requiring Contractor Certification as to Forced or Indentured Child Labor.

* * * * *

(b) * * *

(4) Aruba, Austria, Belgium, Cyprus, Czech Republic, Denmark, Estonia, Finland, France, Germany, Greece, Hong Kong, Hungary, Iceland, Ireland, Italy, Japan, Korea, Latvia, Liechtenstein, Lithuania, Luxembourg, Malta, Netherlands, Norway, Poland, Portugal, Singapore, Slovak Republic, Slovenia, Spain, Sweden, Switzerland, or the United Kingdom and the anticipated value of the acquisition is $175,000 or more (see 25.403(b)).

* * * * *

PART 25—FOREIGN ACQUISITION

25.003 Definitions.

3. Amend section 25.003 in the definition “Designated country” by adding, in alphabetical order, the countries “Cyprus”, “Czech Republic”, “Estonia”, “Hungary”, “Latvia”, “Lithuania”, “Malta”, “Poland”, “Slovak Republic”, and “Slovenia”.

PART 52—SOLICITATION PROVISIONS AND CONTRACT CLAUSES

52.212-5 [Amended]

4. Amend section 52.212-5 by revising the date of the clause to read “(Jun 2004)”; and by removing “(Jan 2004)” from paragraphs (b)(15) and (b)(24) of the clause and adding “(Jun 2004)” in their place.

52.213-4 [Amended]

5. Amend section 52.213-4 by revising the date of the clause to read “(Jun 2004)”; and by removing (Jan 2004)” from paragraph (b)(1)(i) of the clause and adding “(Jun 2004)” in its place.

6. Amend section 52.222-19 by revising the date of the clause and paragraph (a)(4) of the clause to read as follows:

52.222-19 Child Labor—Cooperation with Authorities and Remedies.

* * * * *

Child Labor—Cooperation With Authorities and Remedies—(Jun 2004)

(a) * * *

(4) Aruba, Austria, Belgium, Cyprus, Czech Republic, Denmark, Estonia, Finland, France, Germany, Greece, Hong Kong, Hungary, Iceland, Ireland, Italy, Japan, Korea, Latvia, Liechtenstein, Lithuania, Luxembourg, Malta, Netherlands, Norway, Poland, Portugal, Singapore, Slovak Republic, Slovenia, Spain, Sweden, Switzerland, or the United Kingdom and the anticipated value of the acquisition is $175,000 or more.

* * * * *

52.225-5 [Amended]

7. Amend section 52.225-5 by revising the date of the clause to read “(Jun 2004)”; and in paragraph (a) of the clause, in the definition “Designated country”, by adding, in alphabetical order, the countries “Cyprus”, “Czech Republic”, “Estonia”, “Hungary”, “Latvia”, “Lithuania”, “Malta”, “Poland”, “Slovak Republic”, and “Slovenia”.

52.225-11 [Amended]

8. Amend section 52.225-11 by revising the date of the clause to read “(Jun 2004)”; and in paragraph (a) of the clause, in the definition “Designated country”, by adding, in alphabetical order, the countries “Cyprus”, “Czech Republic”, “Estonia”, “Hungary”, “Latvia”, “Lithuania”, “Malta”, “Poland”, “Slovak Republic”, and “Slovenia”.

[FR Doc. 04-13623 Filed 6-17-04; 8:45 am]

BILLING CODE 6820-EP-P